DEPARTMENT OF COMMERCE

International Trade Administration

[A-570-918]

Steel Wire Garment Hangers From the People's Republic of China: 2011-2012 Initiation of Antidumping Duty New Shipper Review

AGENCY: Import Administration, International Trade Administration, Department of Commerce.

DATES: Effective Date: November 28, 2012.

SUMMARY: The Department of Commerce (“the Department”) has determined that a request for a new shipper review (“NSR”) of the antidumping duty order on steel wire garment hangers from the People's Republic of China (“PRC”) meets the statutory and regulatory requirements for initiation.

FOR FURTHER INFORMATION CONTACT: Irene Gorelik, AD/CVD Operations, Office 9, Import Administration, International Trade Administration, U.S. Department of Commerce, 14th Street and Constitution Avenue NW., Washington, DC 20230; telephone: 202-482-6905.

SUPPLEMENTARY INFORMATION:

Background

The antidumping duty order on steel wire garment hangers from the PRC (“the Order”) was published on October 6, 2008.¹ On October 22, 2012, pursuant to section 751(a)(2)(B)(i) of the Tariff Act of 1930, as amended (“the Act”), and 19 CFR 351.214, the Department received a timely request to conduct a NSR of the Order from Hangzhou Yingqing Material Co. Ltd. and Hangzhou Qingqing Mechanical Co. Ltd. (together, “Yingqing”).² Yingqing has certified that it is the producer and exporter of the subject merchandise upon which the request was based.³

¹ See Notice of Antidumping Duty Order: Steel Wire Garment Hangers from the People's Republic of China, 73 FR 58111 (October 6, 2008).

² See generally Yingqing's NSR request dated October 22, 2012.

³ See id., at 1.

Pursuant to section 751(a)(2)(B)(i)(I) of the Act and 19 CFR 351.214(b)(2)(i), Yingqing certified that it did not export subject merchandise to the United States during the period of investigation (“POI”).⁴ In addition, pursuant to section 751(a)(2)(B)(i)(II) of the Act and 19 CFR 351.214(b)(2)(iii)(A), Yingqing certified that, since the initiation of the investigation, it has never been affiliated with any PRC exporter or producer who exported subject merchandise to the United States during the POI, including those respondents not individually examined during the investigation.⁵ As required by 19 CFR 351.214(b)(2)(iii)(B), Yingqing also certified that its export activities were not controlled by the PRC central government.⁶

⁴ See id., at 2 and Ex. 1.

⁵ See id.

⁶ See id.

In addition to the certifications described above, pursuant to 19 CFR 351.214(b)(2)(iv), Yingqing submitted documentation establishing the following: (1) The date on which it first shipped subject merchandise for export to the United States; (2) the volume of its first shipment; and (3) the date of its first sale to an unaffiliated customer in the United States.⁷

⁷ See id. at 3 and Ex. 2;Yingqing's Letter to the Department dated November 14, 2012.

Initiation of New Shipper Reviews

Pursuant to section 751(a)(2)(B) of the Act and 19 CFR 351.214(d)(1), we find that Yingqing's NSR request meets the threshold requirements for initiation of a NSR for the shipment of steel wire garment hangers from the PRC produced and exported by Yingqing.⁸ The period of review (“POR”) is October 1, 2011, through September 30, 2012.⁹ The Department intends to issue the preliminary results of this NSR no later than 180 days from the date of initiation, and the final results no later than 270 days from the date of initiation.¹⁰

⁸ See “Memorandum to the File, from Catherine Bertrand, Program Manager, “Steel Wire Garment Hangers from the People's Republic of China: New Shipper Initiation Checklist,” dated concurrently with this notice.

⁹ See 19 CFR 351.214(g)(1)(i)(A).

¹⁰ See section 751(a)(2)(B)(iv) of the Act.

It is the Department's usual practice, in cases involving non-market economies (“NMEs”), to require that a company seeking to establish eligibility for an antidumping duty rate separate from the NME entity-wide rate provide evidence of de jure and de facto absence of government control over the company's export activities. Accordingly, we will issue a questionnaire to Yingqing, which will include a section requesting information with regard to its export activities for separate rate purposes. The NSR will proceed if the response provides sufficient indication that Yingqing is not subject to either de jure or de facto government control with respect to its exports of subject merchandise.

We will instruct U.S. Customs and Border Protection to allow, at the option of the importer, the posting, until the completion of the NSR, of a bond or security in lieu of a cash deposit for each entry of the subject merchandise from Yingqing in accordance with section 751(a)(2)(B)(iii) of the Act and 19 CFR 351.214(e). Because Yingqing certified that it produced and exported the subject merchandise, the sale of which is the basis for this NSR request, we will apply the bonding privilege to Yingqing only for subject merchandise which Yingqing both produced and exported.

Interested parties requiring access to proprietary information in this NSR should submit applications for disclosure under administrative protective order in accordance with 19 CFR 351.305 and 19 CFR 351.306.

This initiation and notice are published in accordance with section 751(a)(2)(B) of the Act and 19 CFR 351.214 and 351.221(c)(1)(i).

Dated: November 20, 2012.
Christian Marsh,
Deputy Assistant Secretary for Antidumping and Countervailing Duty Operations.

[FR Doc. 2012-28849 Filed 11-27-12; 8:45 am]

BILLING CODE 3510-DS-P